DEPARTMENT OF THE INTERIOR

Bureau of Indian Affairs

Proposed Agency Information Collection Activities; Comment Request

AGENCY: Bureau of Indian Affairs, Interior.

ACTION: Notice.

SUMMARY: In compliance with the Paperwork Reduction Act of 1995, the Office of Indian Energy and Economic Development is seeking comments on renewal of a reporting system for Public Law 102-477, “Indian Employment, Training and Related Services Demonstration Act of 1992.” The existing data collection, cleared under OMB Control Number 1076-0135, expires on November 30, 2006. This information collection requirement satisfies this statutory requirement.

DATES: Submit comments on or before December 18, 2006.

ADDRESSES: Send comments to Lynn Forcia, Chief, Division of Workforce Development, telefacsimile number (202) 208-6991 or write to Division of Workforce Development, Office of Indian Energy and Economic Development, 1951 Constitution Avenue, NW., Mail Stop 20-SIB, Washington, DC 20240.

FOR FURTHER INFORMATION CONTACT: You may request further information or obtain copies of the proposed information collection request from the Lynn Forcia, Chief, Division of Workforce Development at the address above.

SUPPLEMENTARY INFORMATION: A report system for the Public Law 102-477 initiative expires November 30, 2006. This is a request for an extension of a previously approved information collection request.

The information collection is needed to document satisfactory compliance with statutory requirements of the various integrated programs. Public Law 102-477 authorizes tribal governments to integrate federally funded employment, training and related services programs into a single, coordinated, comprehensive service delivery plan. Funding agencies include the Department of the Interior, the Department of Labor, and the Department of Health and Human Services. The Department of the Interior is statutorily required to serve as the lead agency. Section II of this Act requires that the Secretary of the Interior make available a single universal report format which shall be used by a tribal government to report on integrated activities and expenditures undertaken by tribes. The Department of the Interior shares the information collected from these reports with the Department of Labor and the Department of Health and Human Services.

Public Law 102-477 requires that the tribes report annually. Tribal governments voluntarily participating in Public Law 102-477 are required to annually complete one financial report, one narrative and one program statistical report. When the forms were first developed in 1993, the 7 pages replaced 166 pages of instructions and applications representing three different agencies and twelve different funded but related programs. We estimated a 95 percent reduction in reporting, which is consistent with the Paperwork Reduction Act. Since that time, Federal program additions and changes have affected the data collection. The revised proposed forms include 13 pages of forms and instructions if a tribal government decides to integrate the Department of Health and Human Services, Temporary Assistance to Needy Families (TANF) program into Public Law 102-477. If a tribal government does not include TANF, the tribe is required to report 8 of the 13 pages. In either event, Public Law 102-477 reporting process continues to be a major reduction in reporting.

Request for Comments

The Department of the Interior requests your comments on this collection concerning:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and

(d) Ways we could minimize the burden of the collection of the information on the respondents, such as through the use of automated collection techniques or other forms of information technology.

Please note that an agency may not sponsor or request, and an individual need not respond to, a collection of information unless it has a valid OMB Control Number.

It is our policy to make all comments available to the public for review at the location listed in the ADDRESSES section, room 18, during the hours of 8 a.m. to 5 p.m., Eastern Standard Time, Monday through Friday, except for legal holidays. If you wish to have your name and/or address withheld, you must state this prominently at the beginning of your comments. We will honor your request according to the requirements of the law. All comments from organizations or representatives will be available for review. We may withhold comments from review for other reasons.

Information Collection Abstract

OMB Control Number: 1076-0135.

Type of review: Renewal.

Title: A Reporting System for Public Law 102-477, Indian Employment, Training and Related Services Demonstration Project.

Brief description of collection: Tribal governments voluntarily participating in Public Law 102-477 are statutorily required to annually complete one report including: (a) A 1-page program statistical form, (b) a 1-page financial report, and (c) a narrative which will describe what the tribal government is trying to accomplish with its employment, training and related services resources in its own circumstances and the extent to which it has succeeded. The narrative report may be in any format. In addition, those tribes voluntarily integrating the Department of Health and Human Services, Temporary Assistance to Needy Families must also complete an additional 1-page form. The entire reporting format includes 13 pages of forms and instructions.

Respondents: Respondents are tribal governments, which voluntarily participate in Public Law 102-477.

Number of respondents: We currently have 49 grantees representing 243 federally-recognized tribes.

Estimated time per response: We estimate that completion of the reporting requirements will require 10 hours per year to complete for each grantee, times 49 equals 490 burden hours. If the tribal governments have also integrated Department of Health and Human Services, Temporary Assistance to Needy Families they must complete one additional form. We estimate that this would add an additional hour per respondent. If all 49 grantees add the Temporary Assistance to Needy Families to their Public Law 102-477 program, the total burden hours would equal 49 grantees times 11 hours or 539 total burden hours.

Frequency of response: All voluntarily participating tribal governments in Public Law 102-477 must complete the required reports once each year of participation.

Total Annual Burden to Respondents: We estimate that the total burden hours will be 539 hours or less.

Total Annual Cost to Respondents: We estimate that the total annual cost to respondents is $5,390 per year. This cost includes filing space cost and materials. The cost does not include salary.

Dated: October 2, 2006.
Michael D. Olsen,
Principal Deputy Assistant Secretary—Indian Affairs.

[FR Doc. E6-17354 Filed 10-17-06; 8:45 am]

BILLING CODE 4310-4M-P